DEPARTMENT OF THE TREASURY

Office of Foreign Assets Control

Sanctions Actions Pursuant to Executive Order 13224

AGENCY: Office of Foreign Assets Control, Treasury.

ACTION: Notice.

SUMMARY: The Department of the Treasury's Office of Foreign Assets Control (OFAC) is publishing the names of 2 individuals and 1 entity whose property and interests in property are blocked pursuant to Executive Order 13224 of September 23, 2001, “Blocking Property and Prohibiting Transactions With Persons Who Commit, Threaten To Commit, or Support Terrorism.”

DATES: OFAC's actions described in this notice were effective on December 7, 2016.

FOR FURTHER INFORMATION CONTACT: Associate Director for Global Targeting, tel.: 202-622-2420, Assistant Director for Sanctions Compliance & Evaluation, tel.: 202-622-2490, Assistant Director for Licensing, tel.: 202-622-2480, Office of Foreign Assets Control, or Chief Counsel (Foreign Assets Control), tel.: 202-622-2410, Office of the General Counsel, Department of the Treasury (not toll free numbers).

SUPPLEMENTARY INFORMATION:

Electronic Availability

The SDN List and additional information concerning OFAC sanctions programs are available from OFAC's Web site (www.treas.gov/ofac).

Notice of OFAC Actions

On December 7, 2016, OFAC blocked the property and interests in property of the following 2 individuals and 1 entity pursuant to E.O. 13224, “Blocking Property and Prohibiting Transactions With Persons Who Commit, Threaten To Commit, or Support Terrorism”:

Individuals

1. SADIQ AL-AHDAL, Abdallah Faysal (a.k.a. AL-AHDAL, Abdallah Bin Faisal; a.k.a. AL-AHDAL, Abdallah Bin Faysal; a.k.a. AL-AHDAL, Abdallah Faisal; a.k.a. AL-AHDAL, Abdallah Faysal; a.k.a. AL-AHDAL, Abdullah; a.k.a. AL-AHDAL, Abdullah Bin Faisal; a.k.a. AL-AHDAL, Abdullah Bin Faysal; a.k.a. AL-AHDAL, Abdullah Faisal; a.k.a. AL-AHDAL, Abdullah Faysal; a.k.a. AL-AHDEL, Abdullah; a.k.a. AL-ALAHADIL, Abdullah), Ash Shihr District, Hadramawt Governorate, Yemen; DOB Jan 1959; citizen Yemen (individual) [SDGT] (Linked To: AL-QA'IDA IN THE ARABIAN PENINSULA).

2. ALI ALI ABKAR, Al-Hasan (a.k.a. ALI ABKAR, Al-Hassan; a.k.a. ALI ABKAR, Hasan; a.k.a. ALI ALI ABKAR, Al Hassan; a.k.a. ALI ALI ABKAR, Alihasan; a.k.a. BIN ALI ABKAR, Hassan; a.k.a. BIN-ALI ABKAR, Al-Hasan), Al-Ghail district, Al-Jawf Governorate, Yemen; DOB 05 Jun 1962; POB Yemen; citizen Yemen; Passport 02214513 (Yemen) (individual) [SDGT] (Linked To: AL-QA'IDA IN THE ARABIAN PENINSULA).

Entity

1. RAHMAH CHARITABLE ORGANIZATION (a.k.a. AL-RAHMA CHARITY FOUNDATION; a.k.a. AL-RAHMA FOUNDATION; a.k.a. AL-RAHMAH CHARITABLE ASSOCIATION; a.k.a. AL-RAHMAH CHARITY FOUNDATION; a.k.a. AL-RAHMAH CHARITY ORGANIZATION; a.k.a. AL-RAHMAH FOUNDATION; a.k.a. AL-RAHMAH ORGANIZATION; a.k.a. AL-RAHMAH WELFARE ORGANIZATION; a.k.a. AL-RAHMAN WELFARE ORGANIZATION; a.k.a. AR RAHMAH CHARITY FOUNDATION; a.k.a. AR RAHMAH FOUNDATION; a.k.a. EL RAHMAH CHARITY FOUNDATION; a.k.a. EL RAHMAH FOUNDATION; a.k.a. MUASSASSAT AL-RAHMAH; a.k.a. MUASSASSAT AL-RAHMAH AL-KHAYRIYYAH; a.k.a. RAHMA CHARITABLE ORGANIZATION; a.k.a. RAHMA WELFARE ASSOCIATION; a.k.a. RAHMA WELFARE FOUNDATION), Ash Shihr City, Hadramawt Governorate, Yemen [SDGT] (Linked To: SADIQ AL-AHDAL, Abdallah Faysal).

Dated: December 7, 2016.
Andrea Gacki,
Acting Director, Office of Foreign Assets Control.

[FR Doc. 2016-29961 Filed 12-13-16; 8:45 am]

BILLING CODE 4810-AL-P